DEPARTMENT OF COMMERCE

National Oceanic and Atmospheric Administration

50 CFR Part 600

[I.D. 112700D]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs that would allow two vessels to conduct fishing operations otherwise restricted by the regulations governing the fisheries of the Northeastern United States. The Manomet Center for Conservation Sciences (Manomet) submitted a complete application for the issuance of EFPs to two commercial fishing vessels, which warrants further consideration. The EFPs would allow two federally permitted groundfish vessels to conduct composite mesh selectivity studies with small-mesh codend covers to target mixed groundfish species--primarily yellowtail flounder, winter flounder (blackback), summer flounder (fluke), American plaice (dab) and cod, and may also allow access to seasonal area closures in the Gulf of Maine (GOM). The study is intended to determine the selective efficiency of each experimental codend and will attempt to correlate fish behavior with these findings. Regulations under the Magnuson-Stevens Fishery Conservation and Management Act require publication of this notification to provide interested parties the opportunity to comment on applications for proposed EFPs.

DATES: Comments on this action must be received at the appropriate address or fax number (see ADDRESSES) on or before December 20, 2000.

ADDRESSES: Written comments should be sent to Patricia Kurkul, Regional Administrator, NMFS, Northeast Regional Office, 1 Blackburn Drive, Gloucester, MA 01930. Mark the outside of the envelope “Comments on EFP Proposal.” Comments may also be sent via facsimile (fax) to (978) 281-9135.

FOR FURTHER INFORMATION CONTACT: Bonnie Van Pelt, Fishery Management Specialist, 978-281-9244.

SUPPLEMENTARY INFORMATION: Manomet submitted an industry cooperative proposal on November 6, 2000, for two EFPs to conduct composite codend mesh selectivity studies to address bycatch and discard of incidental catch and sub-legal sized fish in the mixed-groundfish fisheries of the Northeast. The study would be conducted in that portion of the GOM/Georges Bank Regulated Mesh Area that extends east from the New Hampshire shoreline at 43° N. lat. to 43° N. lat./70° W. long., then following the 70° W. long. line south to the 42° N. lat. line, and then extending west to the Cape Cod shoreline.

This industry collaborative study involves Manomet, the Massachusetts Division of Marine Fisheries, and the Maine Department of Marine Resources as co-principal investigators, and proposes to field test two composite mesh combinations against two industry-standard codend mesh sizes as follows: (1) Two composite codends made of 6.5-inch (16.51-cm) square mesh on the top half, one with 6.5-inch (16.51-cm) diamond mesh on the bottom half and the other with 6-inch (15.24-cm) diamond mesh on the bottom half, and (2) Two industry-standard codends, one made entirely of 6-inch (15.24-cm) diamond mesh and one made entirely of 6.5-inch (16.51-cm) square mesh.

The purpose of the study is to compare the length frequencies (size classes) of the catch retained by the two industry-standard codends and the two composite mesh codend combinations. To accomplish this, 1-7/8 inch (4.78-cm) codends will be used to cover the four test codends in order to retain for analysis fish that pass through the larger-mesh codends. The catch data for each sample (tow) would be used to prepare species-specific mesh selectivity curves. That is, the research will determine the size of each fish species retained by each of the codends tested versus the fish that are excluded by the codends. Data would be pooled for each of the codends tested and the selective efficiency of each codend will be determined for each important target species. Manomet will also conduct a detailed behavioral analysis to ascertain the presence/absence of species-specific behavioral patterns that may explain observed differences in the selective efficiency of the experimental composite codend mesh.

The field trials would take place over a period of approximately 5 days, with a total sample size of 40 tows. The 40 tows will consist of 10 tows for each of four codend mesh sizes (standard and composite mesh), at eight tows per day. These commercial gear trials would operate in the designated study area outside the Western GOM Year Round Closure Area beginning in December 2000, until the 40 tows are obtained. However, the principal investigator may decide that access to the GOM seasonal closure areas is necessary to catch the desired species at the appropriate time, in order to achieve the optimal sample. This would only occur as a last resort, in the event that the required species cannot be caught outside of these areas. Should access to these areas be necessary, the GOM seasonal closures that may correspond in time and location with the proposed study are as follows: Rolling Closure Area I (March 1- March 31), Rolling Closure Area II (April 1- April 30), Rolling Closure Area III (May 1 - May 31), and Rolling Closure Area VI (February 1 - February 28).

The experimental sampling design (use of double codend) is intended to greatly minimize the number of tows necessary to yield the necessary amount of catch information; a minimum of 10 tows (1 hour in length) is required for satisfactory selectivity curve results. The target species are yellowtail flounder, winter flounder (blackback), summer flounder (fluke), American plaice (dab) and cod. The main incidental species are expected to be skates, smooth and spiny dogfish, sculpins, sea raven and sea robin. Any sub-legal sized fish would be processed by the researcher (e.g., measured) and returned immediately to the water. During the experimental trials, participating vessels would be instructed to conduct normal fishing operations. Therefore, the vessels may only retain fish for commercial sale in the amount allowed under their respective Federal fishery permits and Days-at-Sea allocations. Catch would be sampled on each trip by NMFS-certified observers and all data, including the weight and length of all fish caught, would be entered into NMFS logbooks and submitted to the Northeast Fisheries Science Center upon completion of a trip.

Manomet will train up to five commercial fishers as sea samplers for use during the course of this experiment. It is hoped that the newly trained sea samplers would be available to support other programs at the completion of the proposed experiment.

EFPs would be issued to two participating federally permitted Northeast multispecies vessels to exempt them from the gear restrictions and, if necessary, the GOM seasonal area closures of the Northeast Multispecies Fishery Management Plan, found at 50 CFR part 648, subpart F.

Authority: 16 U.S.C. 1801 et seq.

Dated: November 28, 2000.
Bruce C. Morehead,
Acting Director, Office of Sustainable Fisheries, National Marine Fisheries Service.

[FR Doc. 00-30820 Filed 12-4-00; 8:45 am]

BILLING CODE 3510-22-S